DEPARTMENT OF TRANSPORTATION

Office of the Secretary

Notice of Applications for Certificates of Public Convenience and Necessity and Foreign Air Carrier Permits Filed Under Subpart Q During the Week Ending January 19, 2001

The following Applications for Certificates of Public Convenience and Necessity and Foreign Air Carrier Permits were filed under Subpart Q of the Department of Transportation's Procedural Regulations (See 14 CFR 302.1701 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2001-8694.

Date Filed: January 16, 2001.

Due Date for Answers, Conforming Applications, or Motion to Modify Scope: February 6, 2001.

Description: Application of Barron World Aviation, Ltd., L.L.C., d/b/a Barron World Airways pursuant to 49 U.S.C. Section 41102 and Subpart B, applies for a certificate of public convenience and necessity authorizing interstate charter air transportation.

Docket Number: OST-2001-8695.

Date Filed: January 16, 2001.

Due Date for Answers, Conforming Applications, or Motion to Modify Scope: February 6, 2001.

Description: Application of Sunrise Airlines, Inc., requests a waiver of 14 C.F.R. Section 204.7 so that Sunrise may resume regularly scheduled commuter air service operations during its Chapter 11 reorganization case, on or before February 16, 2001.

Dorothy Y. Beard,
Federal Register Liaison.

[FR Doc. 01-2969 Filed 2-2-01; 8:45 am]

BILLING CODE 4910-62-P